FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No. 011773.

Title: Interocean Lines/Ulisses Lines Inc. Space Charter Agreement.

Parties: Interocean Lines, Inc., Ulisses Lines, Inc.

Synopsis: The proposed agreement would allow Interocean Lines to charter up to 100 TEUs of space on Ulisses Lines' vessels in the trade between South Florida and the Dominican Republic.

Agreement No.: 011774.

Title: Interocean Lines/Pegasus Marine Finance Inc. Space Charter Agreement.

Parties: Interocean Lines, Inc., Pegasus Marine Finance Inc.

Synopsis: The proposed agreement authorizes Pegasus Marine Finance Inc. to charter space on its vessels to Interocean Lines in the trade between Houston and Port Everglades, and Brazilian ports of Santos and Itajai.

Dated: August 17, 2001.
By Order of the Federal Maritime Commission.
Bryant L. VanBrakle,
Secretary.

[FR Doc. 01-21211 Filed 8-21-01; 8:45 am]

BILLING CODE 6730-01-P